DEPARTMENT OF COMMERCE

Patent and Trademark Office

Agency Information Collection Activities; Submission to the Office of Management and Budget (OMB) for Review and Approval; Comment Request; Patent and Trademark Resource Center Metrics

AGENCY: United States Patent and Trademark Office, Department of Commerce.

ACTION: Notice of information collection; request for comment.

SUMMARY: The United States Patent and Trademark Office (USPTO), as required by the Paperwork Reduction Act of 1995, invites comments on the extension and revision of an existing information collection: 0651-0068 (Patent and Trademark Resource Center Metrics). The purpose of this notice is to allow 60 days for public comment preceding submission of the information collection to OMB.

DATES: To ensure consideration, comments regarding this information collection must be received on or before January 19, 2024.

ADDRESSES: Interested persons are invited to submit written comments by any of the following methods. Do not submit Confidential Business Information or otherwise sensitive or protected information.

• Email: InformationCollection@uspto.gov. Include “0651-0068 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Robert Berry, Manager, Patent and Trademark Resource Center Program, Office of the Chief Information Officer, United States Patent and Trademark Office, P.O. Box 1450, Alexandria, VA 22313-1450; by telephone at 571-272-7152; or by email at Robert.Berry@uspto.gov with “0651-0068 comment” in the subject line. Additional information about this information collection is also available at http://www.reginfo.gov under “Information Collection Review.”

SUPPLEMENTARY INFORMATION:

I. Abstract

The Patent and Trademark Resource Center (PTRC) is authorized under the provision of 35 U.S.C. 2(a)(2), which provides that the United States Patent and Trademark Office (USPTO) shall be responsible for disseminating information with respect to patents and trademarks to the public. The PTRC Program is made up of public, state, and academic libraries. Each participating library designated as a PTRC must fulfill the following requirements: Assist the public in the efficient use of patent and trademark resources; provide free access to patent and trademark resources provided by the USPTO; and send representatives to attend USPTO-hosted PTRC training seminars.

The USPTO seeks to collect information about the public's use of the PTRCs and training provided through the PTRC program. The PTRC Program requirements stipulate that all participating libraries must submit quarterly metrics on the public's use of PTRC services and public outreach efforts provided by the PTRCs. To facilitate that requirement, the USPTO electronically collects these metrics on a quarterly basis. This information collection enables the USPTO to see how customers are being served by the PTRCs and to ascertain what changes may be needed in the types of services provided. These metrics also provide the PTRC Program Office with insight into the trainings it should offer to PTRC librarians.

II. Method of Collection

Electronically submitted to the USPTO.

III. Data

OMB Control Number: 0651-0068.

Forms: None.

Type of Review: Extension and revision of a currently approved information collection.

Affected Public: State, local, and Tribal governments.

Respondent's Obligation: Required to obtain or retain benefits.

Estimated Number of Annual Respondents: 100 respondents.

Estimated Number of Annual Responses: 400 responses.

Estimated Time per Response: The USPTO estimates that the responses in this information collection will take the public approximately 30 minutes (0.50 hours) to complete. This includes the time to gather the necessary information, prepare the worksheet, and submit it to the USPTO.

Estimated Total Annual Respondent Burden Hours: 200 hours.

Estimated Total Annual Respondent Hourly Cost Burden: $7,508.

Table 1—Total Burden Hours and Hourly Costs to State, Local, and Tribal Government Respondents
Item No. | Item | Estimated annual respondents | Responses per respondent | Estimated annual r esponses | Estimated time for response (hours) | Estimated burden (hour/year) | Rate ¹ ($/hour) | Estimated annual respondent cost burden
|  | (a) | (b) | (a) × (b) = (c) | (d) | (c) × (d) = (e) | (f) | (e) × (f) = (g)
1 | PTRC Metrics | 100 | 4 | 400 | 0.50 (30 minutes) | 200 | $37.54 | $7,508
Total |  | 100 |  | 400 |  | 200 |  | 7,508

Estimated Total Annual Respondent Non-Hourly Cost Burden: $0. There are no capital start-up, maintenance costs, recordkeeping costs, filing fees, or postage costs associated with this information collection.

¹ Bureau of Labor Statistics (BLS), Occupation Employment Statistics, wage category 25-4022 for `Librarians and Media Collections Specialists working in Colleges, Universities, and Professional Schools'; https://www.bls.gov/oes/current/oes254022.htm.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Information Collections Officer, Office of the Chief Administrative Officer, United States Patent and Trademark Office.

[FR Doc. 2023-25630 Filed 11-17-23; 8:45 am]

BILLING CODE 3510-16-P